DEPARTMENT OF THE INTERIOR

Fish and Wildlife Service

Notice of Availability of a Draft Environmental Impact Report/Environmental Impact Statement and Receipt of an Application for an Incidental Take Permit for the Orange County Southern Subregion Habitat Conservation Plan, Orange County, CA

AGENCY: Fish and Wildlife Service, Interior.

ACTION: Notice of availability and receipt of application.

SUMMARY: The County of Orange, Rancho Mission Viejo, and Santa Margarita Water District (Applicants) have applied to the U.S. Fish and Wildlife Service (Service) for an incidental take permit pursuant to section 10(a)(1)(B) of the Endangered Species Act of 1973, as amended (Act). The Service is requesting public comment on the Draft Orange County Southern Subregion Habitat Conservation Plan (HCP), Draft Implementing Agreement, and Draft Environmental Impact Report/Environmental Impact Statement (EIR/EIS). The Applicants seek a permit to incidentally take 25 animal species and assurances for 7 plant species, including 25 unlisted species should any of them become listed under the Act during the term of the proposed 75-year permit. The permit is needed to authorize take of listed animal species (including harm and injury) for Covered Activities, including development and associated infrastructure in Rancho Mission Viejo, expansion of the Prima Deshecha Landfill, and the extension of La Pata Road in the approximately 132,000-acre Plan Area in southern Orange County, California.

A Draft Environmental Impact Statement, which is the Federal portion of the Draft EIR/EIS, has been prepared jointly by the Service and the County of Orange to analyze the impacts of the HCP and is also available for public review. The analyses provided in the Draft EIR/EIS are intended to inform the public of the proposed action, alternatives, and associated impacts; address public comments received during the scoping period for the Draft EIR/EIS; disclose the direct, indirect, and cumulative environmental effects of the proposed action and each of the alternatives; and indicate any irreversible commitment of resources that would result from implementation of the proposed action.

DATES: Written comments should be received on or before September 12, 2006.

ADDRESSES: Comments should be sent to Mr. Jim Bartel, Field Supervisor, U.S. Fish and Wildlife Service, Carlsbad Fish and Wildlife Office, 6010 Hidden Valley Road, Carlsbad, California 92011. You may also submit comments by facsimile to 760-918-0638.

Information, comments, and/or questions related to the EIR and the California Environmental Quality Act should be submitted to Mr. Tim Neely at the County of Orange, 300 North Flower Street, Santa Ana, California 92702; telephone 714-834-2552; facsimile 714-834-2771.

To get copies of the documents, see “Availability of Documents” under SUPPLEMENTARY INFORMATION.

FOR FURTHER INFORMATION CONTACT: Ms. Karen Goebel, Assistant Field Supervisor, at the Carlsbad Fish and Wildlife Office (see ADDRESSES); telephone 760-431-9440.

SUPPLEMENTARY INFORMATION:

Availability of Documents

Documents available for public review include the permit applications, the Public Review Draft HCP and Appendixes A-E, the Map Book (bound separately), the accompanying Draft Implementing Agreement, and the Draft EIR/EIS.

Individuals wishing copies of the documents should contact the Service by telephone at 760-431-9440, or by letter to the Carlsbad Fish and Wildlife Office. Copies of the HCP, Draft EIR/EIS, and Draft Implementing Agreement also are available for public review, by appointment, during regular business hours, at the Carlsbad Fish and Wildlife Office (see ADDRESSES). Copies are also available for viewing in select local southern Orange County public libraries (listed below), the Orange County Planning Department, and at the following Web site: http://www.ocplanning.net.

1. Dana Point Library—Reference Desk, 33841 Niguel Road, Laguna Niguel, California 92629;

2. Laguna Hills Library—Reference Desk, 25555 Alicia Parkway, Laguna Hills, California 92653;

3. Laguna Niguel Library—Reference Desk, 30341 Crown Valley Parkway, Laguna Niguel, California 92677;

4. Mission Viejo Library—Reference Desk, 100 Civic Center, Mission Viejo, California 92691;

5. Rancho Santa Margarita Library—Reference Desk, 30902 La Promesa, Rancho Santa Margarita, California 92688;

6. San Clemente Library—Reference Desk, 242 Avenida Del Mar, San Clemente, California 92672;

7. San Juan Capistrano Library—Reference Desk, 31495 El Camino Real, San Juan Capistrano, California 92675; and

8. Orange County Resources & Development Management Department.—Tim Neely, 300 North Flower Street, Santa Ana, California 92702.

Background Information

Section 9 of the Act and its implementing Federal regulations prohibit the “take” of fish and wildlife species federally listed as endangered or threatened. Take of federally listed fish or wildlife is defined under the Act to include to kill, harm, or harass. “Harm” includes significant habitat modification or degradation that actually kills or injures listed wildlife by significantly impairing essential behavioral patterns, including breeding, feeding, and sheltering (50 CFR 17.3(c)). Under limited circumstances, the Service may issue permits to authorize incidental take; i.e., take that is incidental to, and not the purpose of, otherwise lawful activity. Although take of plant species is not prohibited under the Act, and therefore cannot be authorized under an incidental take permit, plant species are proposed to be included on the permit in recognition of the conservation benefits provided to them under the HCP. All species included on an incidental take permit would receive assurances under the Service's, “No Surprises” regulation [50 CFR 17.22(b)(5) and 17.32(b)(5)].

The Applicants seek an incidental take permit and assurances for 25 animal species and assurances for 7 plant species. Collectively, the 32 listed and unlisted species are referred to as “Covered Species” by the HCP, and include 7 plant species (1 threatened [Thread-leaved Brodiaea (Brodiaea filifolia] and 6 unlisted [California Scrub Oak (Quercus berberidifolia), Chaparral Beargrass (Nolina cismontana), Coast Live Oak (Quercus agrifolia), Coulter's Saltbush (Atriplex coulteri), Many-stemmed Dudleya (Dudleya multicaulis), and Southern Tarplant (Centromadia parryi var. australis)]); 2 invertebrate species (both endangered [Riverside Fairy Shrimp (Streptocephalus woottoni) and San Diego Fairy Shrimp (Branchinecta sandiegonensis)]); 2 fish species (unlisted [Arroyo Chub (Gila orcutti) and Partially-armored Threespine Stickleback (Gasterosteus aculeatus microcephalus)]); 2 amphibian species (1 endangered [Arroyo Toad (Bufo californicus)] and 1 unlisted [Western Spadefoot Toad (Spea hammondii)]); 7 reptile species (unlisted [California Glossy Snake (Arizona elegans occidentalis), Coast Patch-nosed Snake (Salvadora hexalepis virgultea), Northern Red-diamond Rattlesnake (Crotalus ruber ruber), Orange-throated Whiptail (Aspidoscelis hyperythra), Red Coachwhip (Masticophis flagellum piceus), San Diego “Coast” Horned Lizard (Phrynosoma coronatum), and Southwestern Pond Turtle (Emys [=Clemmys] marmorata pallida)]); and 12 bird species (2 endangered [Least Bell's Vireo (Vireo bellii pusillus) and Southwestern Willow Flycatcher (Empidonax traillii extimus)], 1 threatened [Coastal California Gnatcatcher (Polioptila californica californica)], and 9 unlisted [Burrowing Owl (Athene cunicularia), Coastal Cactus Wren (Campylorhynchus brunneicapillus couesi), Cooper's Hawk (Accipiter cooperii), Grasshopper Sparrow (Ammodramus savannarum), Long-eared Owl (Asio otus), Tricolored Blackbird (Agelaius tricolor), White-tailed Kite (Elanus leucurus), Yellow-breasted Chat (Icteria virens), and Yellow Warbler (Dendroica petechia)]). The permit would provide take authorization for animal species identified by the HCP as “Covered Species.” Take authorized for listed covered animal species would be effective upon permit issuance. For currently unlisted covered animal species, take authorization would become effective concurrent with listing, should the species be listed under the Act during the permit term.

The HCP is intended to protect and sustain viable populations of native plant and animal species and their habitats in perpetuity through the creation of a reserve system, while accommodating continued economic development and quality of life for residents of southern Orange County.

The HCP plan area encompasses approximately 132,000 acres in southern Orange County and includes the County of Orange and Rancho Mission Viejo(RMV). It is one of two large, multiple-jurisdiction habitat planning efforts in Orange County, each of which constitutes a “subregional” plan under the State of California's Natural Community Conservation Planning Act, as amended.

As described in the Draft HCP and the Draft EIR/EIS, the proposed HCP would provide for the creation of a reserve system that protects and manages approximately 20,868 acres of habitat for the Covered Species, in addition to approximately 11,950 acres of existing County Wilderness Parkland, the 4,000-acre Audubon Starr Ranch, and approximately 7,000 acres of existing conservation elsewhere in the Southern Subregion of Orange County outside of the Cleveland National Forest. The HCP identifies the proposed reserve system that will be established as part of a Phased Dedication Program linked to phased development on RMV lands. When completed, the reserve system will include large habitat blocks for Covered Species, essential ecological processes, and biological corridors and linkages to provide for the conservation of the proposed Covered Species.

The HCP includes measures to avoid and minimize incidental take of the Covered Species, emphasizing project design modifications to protect both habitats and covered species. A monitoring and reporting plan would gauge the Plan's success based on achievement of biological goals and objectives and would ensure that conservation keeps pace with development. The HCP also includes a management program, including adaptive management, which allows for changes in the conservation program if the biological species objectives are not met or new information becomes available to improve the efficacy of the HCP's conservation strategy.

Covered Activities would include development and all associated infrastructure on RMV, Santa Margarita Water District projects off of RMV but within the plan area, Prima Deshecha Landfill expansion, the La Pata Road improvements and extension, and grazing on portions of the Habitat Reserve. The HCP makes a provision for the inclusion of lot owners in Coto de Caza.

The Draft EIR/EIS analyzes 4 other alternatives in addition to the proposed HCP Preferred Project Alternative described above, including: An expanded conservation alternative; an alternative formulated by the County during the County zoning process; a “no-take/no-streambed alteration” alternative; and a no-project alternative.

Public Comments

The Service and County of Orange invite the public to comment on the Draft HCP, Draft Implementing Agreement, and Draft EIR/EIS [See DATES]. All comments received, including names and addresses, will become part of the official administrative record and may be made available to the public. This notice is provided pursuant to section 10(a) of the Act and Service regulations for implementing the National Environmental Policy Act of 1969 (40 CFR 1506.6). The Service will evaluate the application, associated documents, and comments submitted thereon to prepare a Final Environmental Impact Statement.

Dated: July 6, 2006.
Ken McDermond,
Deputy Manager, California/Nevada Operations Office, Sacramento, California.

[FR Doc. E6-10917 Filed 7-13-06; 8:45 am]

BILLING CODE 4310-55-P